DEPARTMENT OF DEFENSE

Office of the Secretary

[Docket ID: DOD-2016-OS-0017]

Proposed Collection; Comment Request

AGENCY: National Geospatial-Intelligence Agency, DoD.

ACTION: Notice.

SUMMARY: In compliance with the Paperwork Reduction Act of 1995, the National Geospatial-Intelligence Agency (NGA) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 25, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of Business Intelligence, Xperience Directorate, National Geospatial-Intelligence Agency, ATTN: Deborah A. Gaut, Program Manager, 3200 S. 2nd Street, St. Louis, MO 63118, or call Deborah Gaut at 314-676-1847.

SUPPLEMENTARY INFORMATION: Title; Associated Form; and OMB Number: NGA Customer Satisfaction Survey; OMB Control Number 0704-XXXX.

Needs and Uses: The information collection requirement is necessary to gather information from NGA's external customers regarding their overall satisfaction with NGA products and content. These data are used to improve NGA's support to members of the military, intelligence, and public sectors. Results are reported annually to the Office of the Director of National Intelligence in fulfillment of a Congressional mandate for annual reporting.

Affected Public: Individuals or households; State, local, or tribal government.

Annual Burden Hours: 3,788.

Number of Respondents: 22,728.

Responses per Respondent: 1.

Annual Responses: 22,728.

Average Burden per Response: 10 minutes.

Frequency: Annually.

Respondents to this survey are individuals and Federal government, who use Geospatial information or intelligence (GEOINT) to support their respective missions. Analysis is used for purposes of formal reporting to ODNI and Congress; for purposes of leadership decision-making and problem solving, and for improving NGA products and content. This survey serves as an important way of securing direct customer feedback via quantifiable data in pursuit of continuous process and product improvement.

Dated: February 22, 2016.
Aaron Siegel,
Alternate OSD Federal Register, Liaison Officer, Department of Defense.

[FR Doc. 2016-04062 Filed 2-24-16; 8:45 am]

BILLING CODE 5001-06-P